FEDERAL COMMUNICATIONS COMMISSION

[CC Docket No. 96-45; DA 02-510]

Common Carrier Bureau Seeks Comment on Guam Cellular and Paging, Inc. d/b/a/ Saipancell Petition for Designation as an Eligible Telecommunications Carrier on the Island of Saipan in the Commonwealth of the Northern Mariana Islands

AGENCY: Federal Communications Commission.

ACTION: Notice; solicitation of comments.

SUMMARY: This document seeks comments on the Guam Cellular and Paging, Inc. d/b/a Saipancell (Saipancell) petition seeking designation of eligibility to receive federal universal service support for service offered on the island of Saipan in the Commonwealth of the Northern Mariana Islands.

DATES: Comments are due on April 22, 2002. Reply comments are due on May 6, 2002.

ADDRESSES: See Supplementary Information section for where and how to file comments.

FOR FURTHER INFORMATION CONTACT: Anita Cheng, Assistant Chief, Accounting Policy Division, Common Carrier Bureau, (202) 418-7400, TTY: (202) 418-0484.

SUPPLEMENTARY INFORMATION: On February 19, 2002, Saipancell filed with the Commission a petition under section 214(e)(6) seeking designation as an eligible telecommunications carrier (ETC) to receive federal universal service support for service offered on the island of Saipan in the Northern Mariana Islands. Specifically, Saipancell contends that the Commonwealth Utilities Corporation, which is the public utility commission of the Northern Mariana Islands, has provided an affirmative statement that it does not regulate commercial mobile radio service carriers; Saipancell meets all the statutory and regulatory prerequisites for ETC designation; and designating Saipancell as an ETC will serve the public interest. Pursuant to § 54.207(c) of the Commission's rules, Saipancell also requests that the Commission redefine the service area of the incumbent rural local exchange carrier, Micronesian Telephone Corporation (MTC). MTC serves three islands in the Northern Mariana Islands—Saipan, Tinian, and Rota. Saipancell seeks redefinition of the MTC service area to enable Saipancell to be designated as an ETC only for the island of Saipan.

The petitioner must provide copies of its petition to the Commonwealth Utilities Corporation at the time of filing with the Commission. The Commission will also send a copy of the Public Notice to the Commonwealth Utilities Corporation by overnight express mail to ensure that the Commonwealth Utilities Corporation is notified of the notice and comment period.

Pursuant to §§ 1.415 and 1.419 of the Commission's rules, interested parties may file comments on or before April 12, 2002, and reply comments are due on or before April 22, 2002. An original and four copies of all comments must be filed with William F. Caton, Acting Secretary, Office of the Secretary, Federal Communications Commission, 445 12th Street, SW., TW-B204, Washington DC 20554. In addition, four copies of each comment must be delivered to Sheryl Todd, Common Carrier Bureau, 445 12th Street, SW., Room 5-A520, Washington, DC, 20554, and one copy to Qualex International, Portals II, 445 12th Street, SW., Room CY-B402, Washington DC, 20554. In accordance with the Commission's earlier Public Notice announcing that hand-delivered or messenger-delivered filings are no longer accepted at the Commission's headquarters, hand-delivered or messenger-delivered filings must be delivered to 236 Massachusetts Avenue, NE., Suite 110, Washington, DC 20002. The filing hours at this location will be 8 a.m. to 7 p.m. All hand deliveries must be held together with rubber bands or fasteners. Any envelopes must be disposed of before entering the building.

Other messenger-delivered documents, including documents sent by overnight mail (other than United States Postal Service (USPS) Express Mail and Priority Mail), must be addressed to 9300 East Hampton Drive, Capitol Heights, MD 20743. This location will be open 8 a.m. to 5:30 p.m. The USPS first-class mail, Express Mail, and Priority Mail should continue to be addressed to the Commission's headquarters at 445 12th Street, SW., Washington, DC 20554. The USPS mail addressed to the Commission's headquarters actually goes to our Capitol Heights facility for screening prior to delivery at the Commission.

If you are sending this type of document or using this delivery method. . . | It should be addressed for delivery to. . .
Hand-delivered or messenger-delivered paper filings for the Commission's Secretary | 236 Massachusetts Avenue, NE., Suite 110, Washington, DC 20002 (8 a.m. to 7 p.m.).
Other messenger-delivered documents, including documents sent by overnight mail (other than United States Postal Service Express Mail and Priority Mail) | 9300 East Hampton Drive, Capitol Heights, MD 20743 (8 a.m. to 5:30 p.m.).
United States Postal Service first-class mail, Express Mail, and Priority Mail | 445 12th Street, SW., Washington, DC 20554.

In addition to filing paper comments, parties are encouraged also to file comments electronically using the Commission's Electronic Comment Filing System (ECFS). See Electronic Filing of Document in Rulemaking Proceedings, 63 FR 24121, May 1, 1998. Comments filed through the ECFS can be sent as an electronic file via the Internet to http://www.fcc.gov/e-file/ecfs.html. Generally, only one copy of an electronic submission must be filed. In completing the transmittal screen, commenters should include their full name, postal mailing address, and the applicable docket or rulemaking number. Parties may also submit an electronic comment by the Internet e-mail. To receive instructions, send an email to ecfs@fcc.gov and include the following words in the body of the message, “get form <your e-mail address>.” A sample form and directions will be sent in reply.

Pursuant to § 1.1206 of the Commission's rules, this proceeding will be conducted as a permit-but-disclose proceeding in which ex parte communications are permitted subject to disclosure.

Federal Communications Commission.
Anita Cheng,
Assistant Chief, Accounting Policy Division.

[FR Doc. 02-6931 Filed 3-21-02; 8:45 am]

BILLING CODE 6712-01-P